CORPORATION FOR NATIONAL AND COMMUNITY SERVICE

Sunshine Act Meeting

The Board of Directors of the Corporation for National and Community Service gives notice of the following meeting:

Date and Time: Tuesday, June 28, 2005, 10:30 a.m.-12:30 p.m.

Place: Shriners Sphinx Club, Oasis Meeting Room, 1315 K Street NW., Washington, DC 20005.

Status: Open.

Matters to be Considered:

I. Chair's Opening Remarks

II. Consideration of Prior Meeting's Minutes

III. Committee Reports

IV. CEO Report

V. AmeriCorps Rulemaking

VI. Recognition of Juanita Doty

VII. Public Comment

Accommodations: Anyone who needs an interpreter or other accommodation should notify the Corporation's contact person by 5 p.m. Friday, June 24, 2005.

CONTACT PERSON FOR MORE INFORMATION: David Premo, Public Affairs Associate, Public Affairs, Corporation for National and Community Service, 8th Floor, Room 8612C, 1201 New York Avenue NW., Washington, DC 20525. Phone (202) 606-6717. Fax (202) 606-3460. TDD: (202) 606-3472. E-mail: dpremo@cns.gov.

Dated: June 20, 2005.
Frank R. Trinity,
General Counsel

[FR Doc. 05-12502 Filed 6-21-05; 10:33 am]

BILLING CODE 6050-$$-P